DEPARTMENT OF TRANSPORTATION

Maritime Administration

[Docket No. MARAD-2024-0131]

Request for Comments on the Renewal of a Previously Approved Collection: Application for Construction Reserve Fund and Annual Statements (CRF)

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0032 (Application for Construction Reserve Fund (CRF) and Annual Statements) is used to evaluate an applicant's eligibility for CRF program benefits. There was a reduction in the public burden since the last renewal. We are required to publish this notice in the Federal Register to obtain comments from the public and affected agencies.

DATES: Comments must be submitted on or before December 2, 2024.

ADDRESSES: You may submit comments identified by [Docket No. MARAD-2024-0131] through one of the following methods:

• Federal eRulemaking Portal: http://www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is necessary for the Department's performance; (b) the accuracy of the estimated burden; (c) ways for the Department to enhance the quality, utility, and clarity of the information collection; and (d) ways that the burden could be minimized without reducing the quality of the collected information. The agency will summarize and/or include your comments in the request for OMB's clearance of this information collection.

FOR FURTHER INFORMATION CONTACT: David M. Gilmore, Director, 202-366-5737, Office of Marine Financing, Maritime Administration, U.S. Department of Transportation, 1200 New Jersey Avenue SE, Washington, DC 20590, Email: TDavid.gilmore@dot.gov.

SUPPLEMENTARY INFORMATION:

Title: Application for Construction Reserve Fund (CRF) and Annual Statements.

OMB Control Number: 2133-0032.

Type of Request: Extension of a previously approved collection.

Abstract: The Construction Reserve Fund (CRF), authorized by 46 U.S.C. chapter 533, is a financial assistance program which provides tax deferral benefits to U.S.-flag operators. Eligible parties can defer the gain attributable to the sale or loss of a vessel, provided the proceeds are used to expand or modernize the U.S. merchant fleet. The primary purpose of the CRF is to promote the construction, reconstruction, reconditioning, or acquisition of merchant vessels which are necessary for national defense and to the development of U.S. commerce.

Respondents: Citizens who own or operate vessels in the U.S. foreign or domestic commerce who desire tax benefits under the CRF program must respond.

Affected Public: Owners or operators of vessels in the domestic or foreign commerce.

Estimated Number of Respondents: 10.

Estimated Number of Responses: 10.

Estimated Hours per Response: 9.

Annual Estimated Total Annual Burden Hours: 90.

Frequency of Response: Once Annually.

(Authority: The Paperwork Reduction Act of 1995; 44 U.S.C. chapter 35, as amended; and 49 CFR 1.49.)

By Order of the Maritime Administrator.
T. Mitchell Hudson, Jr.,
Secretary, Maritime Administration.

[FR Doc. 2024-22514 Filed 9-30-24; 8:45 am]

BILLING CODE 4910-81-P